ENVIRONMENTAL PROTECTION AGENCY

[FRL-6904-8]

Notice of Proposed Administrative Cost Recovery Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), notice is hereby given of a proposed administrative cost recovery settlement under section 122(h)(1) of CERCLA concerning the Cedar Service site located at U.S. Highway 71 and Beltrami County Road 404, Bemidji, Beltrami County, Minnesota, which was signed by the EPA Director, Superfund Division, Region 5, on September 27, 2000. The settlement resolves an EPA claim under section 107(a) of CERCLA against R.G. Haley & Company, Inc., Cedar Service, Inc., Marilyn H. Antle, John B. “Jack” White and William I. Barkan. The settlement requires the settling parties to pay $150,000.00 to the Hazardous Substances Superfund.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, located at 77 West Jackson Boulevard, Seventh Floor, Chicago, Illinois.

DATES: Comments must be submitted on or before December 21, 2000.

ADDRESSES: The proposed settlement and additional background information relating to the settlement are available for public inspection at the Superfund Records Center, located at 77 West Jackson Boulevard, Seventh Floor, Chicago, Illinois. A copy of the proposed settlement may be obtained from the Superfund Records Center, located at 77 West Jackson Boulevard, Seventh Floor, Chicago, Illinois. Comments should reference the Cedar Service Site, Bemidji, Minnesota, and EPA Docket No. V-W-00-C-614 and should be addressed to Thomas Krueger, Associate Regional Counsel, 77 West Jackson Boulevard, (C-14J), Chicago, Illinois 60604.

FOR FURTHER INFORMATION CONTACT: Thomas Krueger, Associate Regional Counsel, 77 West Jackson Boulevard, (C-14J), Chicago, Illinois 60604.

Dated: September 27, 2000.
William E. Muno,
Director, Superfund Division, Region 5.

[FR Doc. 00-29768 Filed 11-20-00; 8:45 am]

BILLING CODE 6560-50-M